FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 29, 2013.

A. Federal Reserve Bank of Kansas City (Dennis Denney, Assistant Vice President) 1 Memorial Drive, Kansas City, Missouri 64198-0001:

1. The Scott L. Graham Revocable Trust, and Anne Graham, as trustee of the Scott L. Graham Revocable Trust, both of Broken Arrow, Oklahoma; to retain voting shares of First Coweta Corporation, and thereby indirectly retain voting shares of The First National Bank of Coweta, both in Coweta, Oklahoma.

2. The Scott L. Graham Revocable Trust, and Anne Graham, as trustee, Broken Arrow, Oklahoma; to retain voting shares of First Coweta Corporation, and thereby indirectly retain voting shares of The First National Bank of Coweta, both in Coweta, Oklahoma.

Board of Governors of the Federal Reserve System, October 8, 2013.
Michael J. Lewandowski,
Associate Secretary of the Board.

[FR Doc. 2013-24449 Filed 10-11-13; 8:45 am]

BILLING CODE 6210-01-P